NATIONAL SCIENCE FOUNDATION

Advisory Committee for Social, Behavioral and Economic Sciences; Notices of Meeting

In accordance with the Federal Advisory Committee Act (Pub. L. 92-463, as amended), the National Science Foundation announces the following meeting.

Name: Advisory Committee for Social, Behavioral, and Economic Sciences (#1171).

Date & Time: May 5, 2004, 1:30 p.m.-5 p.m. (SRS Breakout) Room 970; May 6, 2004, 8:30 a.m.-5 p.m., Room 1235; May 7, 2004, 8:30 a.m.-12:30 p.m., Room 1235.

Place: National Science Foundation, 4201 Wilson Boulevard, Arlington, VA 22230.

Type of Meeting: Open.

Contact Person: Dr. Sally Kane, Senior Advisor, ACSBE, Directorate for Social, Behavioral, and Economic Sciences, National Science Foundation, 4201 Wilson Boulevard, Room 905, Arlington, VA 22230, (703) 292-8741.

Summary Minutes: May be obtained from contact person listed above.

Purpose of Meeting: To provide advice and recommendations to the National Science Foundation on major goals and policies pertaining to Social, Behavioral and Economic Sciences Directorate programs and activities.]

Agenda: Discussion on issues, role and future direction of the Directorate for Social, Behavioral, and Economic Sciences.

Dated: April 20, 2004.
Susanne Bolton,
Committee Management Officer.

[FR Doc. 04-9293 Filed 4-22-04; 8:45 am]

BILLING CODE 7555-01-M